DEPARTMENT OF COMMERCE

International Trade Administration

[A-570-178]

Certain Tungsten Shot From the People's Republic of China: Final Affirmative Determination of Sales at Less Than Fair Value

AGENCY: Enforcement and Compliance, International Trade Administration, Department of Commerce.

SUMMARY: The U.S. Department of Commerce (Commerce) determines that certain tungsten shot (tungsten shot) from the People's Republic of China (China) is being, or is likely to be, sold in the United States at less than fair value (LTFV). The period of investigation (POI) is January 1, 2024, through June 30, 2024.

DATES: Applicable July 11, 2025.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On February 19, 2025, Commerce published the Preliminary Determination in this investigation and invited interested parties to comment.¹ For a complete description of the events that occurred since the Preliminary Determination, see the Issues and Decision Memorandum.²

¹ See Certain Tungsten Shot from the People's Republic of China: Preliminary Affirmative Determination of Sales at Less Than Fair Value and Postponement of Final Determination and Extension of Provisional Measures, 90 FR 9890 (February 19, 2025) (Preliminary Determination), and accompanying Preliminary Determination Memorandum (PDM).

² See Memorandum, “Issues and Decision Memorandum for the Final Affirmative Determination in the Less-Than-Fair-Value Investigation of Certain Tungsten Shot from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The merchandise covered by the scope of this investigation is tungsten shot from China. For a complete description of the scope of this investigation, see Appendix I.

Scope Comments

We received no comments from interested parties on the scope of the investigation as it appeared in the Preliminary Determination. Therefore, we made no changes to the scope of the investigation.

Verification

As discussed in the Issues and Decision Memorandum, because of certain restrictions imposed by the Government of China, Commerce was unable to conduct verification of the information submitted by Zhuzhou KJ Super Materials Co., Ltd. (KJ Super).

Analysis of Comments Received

The issues raised in the case and rebuttal briefs by the parties in this investigation are discussed in the Issues and Decision Memorandum. For a list of the issues raised by interested parties and addressed in the Issues and Decision Memorandum, see Appendix II.

Changes Since the Preliminary Determination

Based on a review of the record and comments received from interested parties regarding the Preliminary Determination, pursuant to sections 776(a) and (b) of the Tariff Act of 1930, as amended (the Act), we applied facts otherwise available with an adverse inference (AFA) to KJ Super, finding that it provided information that cannot be verified and thus is ineligible for a separate rate and part of the China-wide entity. For a discussion of these changes, see the Issues and Decision Memorandum.

China-Wide Entity and Use of AFA

Consistent with the Preliminary Determination, Commerce continues to find that, pursuant to sections 776(a) and (b) of the Act, the use of facts otherwise available with an adverse inference is warranted in determining the dumping rate for the China-wide entity.³ For this final determination, there is no new information on the record that would cause us to reconsider our preliminary decision. Therefore, as AFA, we assigned a rate of 201.32 percent, which is the highest rate alleged in the petition,⁴ to the China-wide entity.

³ See Preliminary Determination PDM at 2-5.

⁴ See Certain Tungsten Shot From the People's Republic of China: Initiation of Less-Than-Fair-Value Investigation, 89 FR 65856, 65859 (August 13, 2024).

Final Determination

Commerce determines that the following estimated weighted-average dumping margin exists:

Producer/exporter | Weighted- average dumping margin (percent)
China-wide Entity | 201.32

Disclosure

Normally, Commerce discloses to interested parties the calculations performed in connection with a final determination within five days of its public announcement or, if there is no public announcement, within five days of the date of publication of this notice in accordance with 19 CFR 351.224(b). However, because Commerce applied AFA to the mandatory respondent in this investigation, in accordance with section 776 of the Act, and the applied AFA rate is based solely on the petition, there are no calculations to disclose.

Continuation of Suspension of Liquidation

In accordance with section 735(c)(1)(B) of the Act, Commerce will instruct U.S. Customs and Border Protection (CBP) to continue to suspend liquidation of all appropriate entries of tungsten shot, as described in Appendix I of this notice, which were entered, or withdrawn from warehouse, for consumption on or after February 19, 2025, the date of publication of the Preliminary Determination in the Federal Register. These suspension of liquidation instructions will remain in effect until further notice.

Pursuant to section 735(c)(1)(B)(ii) of the Act and 19 CFR 351.210(d), upon the publication of this notice, Commerce will instruct CBP to require a cash deposit for estimated antidumping duties for appropriate entries.

Commerce normally adjusts the estimated weighted-average dumping margin by the amount of export subsidies determined in a companion countervailing duty (CVD) proceeding when CVD provisional measures are in effect. However, not only has suspension of liquidation of provisional measures in the companion CVD investigation been discontinued, but also Commerce preliminarily did not make an affirmative determination for countervailable export subsidies in the companion CVD proceeding.⁵ Therefore, Commerce has not offset the estimated weighted-average dumping margin in the table above.

⁵ See Certain Tungsten Shot from the People's Republic of China: Preliminary Affirmative Countervailing Duty Determination and Alignment of Final Determination With Final Antidumping Duty Determination, 89 FR 104083 (December 20, 2024).

U.S. International Trade Commission (ITC) Notification

In accordance with section 735(d) of the Act, Commerce will notify the ITC of its final affirmative determination of sales at LTFV. Because the final determination in this investigation is affirmative, in accordance with section 735(b)(2) of the Act, the ITC will make its final determination as to whether the domestic industry in the United States is materially injured or threatened with material injury by reason of imports of tungsten shot from China no later than 45 days after our final determination. If the ITC determines that such material injury or threat of material injury does not exist, this proceeding will be terminated, all cash deposits posted will be refunded, and suspension of liquidation will be lifted. If the ITC determines that such injury does exist, Commerce will issue an antidumping duty order directing CBP to assess, upon further instruction by Commerce, antidumping duties on all imports of the subject merchandise entered or withdrawn from warehouse for consumption on or after the effective date of the suspension of liquidation, as discussed in the “Continuation of Suspension of Liquidation” section.

Administrative Protective Order (APO)

This notice also serves as a final reminder to parties subject to an APO of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Notification to Interested Parties

This determination is issued and published in accordance with sections 735(d) and 777(i)(1) of the Act, and 19 CFR 351.210(c).

Dated: July 7, 2025.
Christopher Abbott,
Deputy Assistant Secretary for Policy and Negotiations, performing the non-exclusive functions and duties of the Assistant Secretary for Enforcement and Compliance.

Appendix I

Scope of the Investigation

The merchandise covered by the investigation is certain tungsten spheres or balls, also known as shot, that are 92.6 percent or greater tungsten by weight, not including the weight of any additional coating. In scope shot have a diameter ranging from 1.5 millimeters (mm) to 10.0 mm. Subject shot can be referred to as “Tungsten Super Shot.” Merchandise is covered regardless of the combination of compounds that comprise the non-tungsten material and whether or not the tungsten shot is additionally coated with another material, including but not limited to copper, nickel, iron, or metallic alloys.

Tungsten shot subject to the investigation may be classified under the following Harmonized Tariff Schedule of the United States (HTSUS) subheading: 9306.29.0000. Merchandise may also be entered under HTSUS subheading 8101.99.8000. The HTSUS subheadings are provided for convenience and customs purposes only. The written description of the scope of the investigation is dispositive.

Appendix II

List of Topics Discussed in the Issues and Decision Memorandum

I. Summary

II. Background

III. Changes Since the Preliminary Determination

IV. Discussion of the Issues

Comment 1: Whether Commerce Should Apply Adverse Facts Available (AFA) to Zhuzhou KJ Super Materials Co., Ltd. (KJ Super)

Comment 2: Whether KJ Super is Eligible for a Separate Rate

Comment 3: Whether Certain Business Proprietary Information (BPI) the Petitioner Submitted Should Have Been Disclosed to KJ Super

V. Recommendation

[FR Doc. 2025-12975 Filed 7-10-25; 8:45 am]

BILLING CODE 3510-DS-P